INTERNATIONAL TRADE COMMISSION

[Investigation Nos. 701-TA-302 and 731-TA-454 (Second Review)]

Fresh and Chilled Atlantic Salmon From Norway

Determinations

On the basis of the record ¹ developed in the subject five-year reviews, the United States International Trade Commission (Commission) determines, pursuant to section 751(c) of the Tariff Act of 1930 (19 U.S.C. 1675(c)) (the Act), that revocation of the antidumping and countervailing duty orders on fresh and chilled Atlantic salmon from Norway would be likely to lead to continuation or recurrence of material injury to an industry in the United States within a reasonably foreseeable time.

¹ The record is defined in sec. 207.2(f) of the Commission's Rules of Practice and Procedure (19 CFR 207.2(f)).

Background

The Commission instituted these reviews on February 2, 2005 (70 FR 5471) and determined on May 9, 2005 that it would conduct a full review (70 FR 29364, May 20, 2005). Notice of the scheduling of the Commission's reviews and of a public hearing to be held in connection therewith was given by posting copies of the notice in the Office of the Secretary, U.S. International Trade Commission, Washington, DC, and by publishing the notice in the Federal Register on June 27, 2005 (70 FR 36947).² The hearing was held in Washington, DC, on October 20, 2005, and all persons who requested the opportunity were permitted to appear in person or by counsel.

² Revisions to the schedule were published in the Federal Register on August 30, 2005 (70 FR 51365) and September 29, 2005 (70 FR 56930).

The Commission transmitted its determinations in these reviews to the Secretary of Commerce on January 27, 2006. The views of the Commission are contained in USITC Publication 3835 (January 2006), entitled Fresh and Chilled Atlantic Salmon from Norway: Investigation Nos. 701-TA-302 and 731-TA-454 (Second Review).

Issued: January 27, 2006.
By order of the Commission.
Marilyn R. Abbott,
Secretary to the Commission.

[FR Doc. E6-1360 Filed 1-31-06; 8:45 am]

BILLING CODE 7020-02-P